DEPARTMENT OF THE INTERIOR

Fish and Wildlife Service

[FWS-HQ-FAC-2019-N074; FX.IA167209TRG00-201]

Call for Nominations for the Theodore Roosevelt Genius Prize Advisory Council and Advisory Boards

AGENCY: Fish and Wildlife Service, Interior.

ACTION: Notice.

SUMMARY: The U.S. Department of the Interior (Department) is seeking nominations for the Theodore Roosevelt Genius Prize Advisory Council (Council) to advise the Secretary of the Interior regarding the Theodore Roosevelt Genius Prize competitions. In addition, the Department is seeking nominations for the five Advisory Boards (Boards) to help implement the Prizes.

DATES: Nominations for the Council and Boards must be submitted no later than June 10, 2020.

ADDRESSES: You may submit nominations by any of the following methods:

• Email: TRGenius@fws.gov; or

• U.S. mail or hand-delivery: Stephanie Rickabaugh, U.S. Fish and Wildlife Service, MS: WSFR, 5275 Leesburg Pike, Falls Church, VA 22041-3803.

FOR FURTHER INFORMATION CONTACT: Stephanie Rickabaugh, Wildlife and Sport Fish Restoration Program, by telephone at 703-358-2214, by email at stephanie_rickabaugh@fws.gov, or via the Federal Relay Service at 800-877-8339 for TTY assistance.

SUPPLEMENTARY INFORMATION: The Council and Boards are established under the John D. Dingell, Jr., Conservation, Management, and Recreation Act, March 12, 2019 (Pub. L. 116-9).

The Theodore Roosevelt Genius Prize Advisory Council (Council) advises the Secretary of the Interior (Secretary) regarding the five Theodore Roosevelt Genius Prize competitions. The Council is regulated by the Federal Advisory Committee Act (FACA).

The Prize competitions encourage technological innovation with the potential to advance the mission of the Fish and Wildlife Service in the following areas of concern: (1) Preventing wildlife poaching and trafficking, (2) promoting wildlife conservation, (3) managing invasive species, (4) protecting endangered species, and (5) managing nonlethal human-wildlife conflict. The enabling legislation calls for annual cash prizes up to $100,000 for each of the five competitions; potential awards could total $500,000.

The Act establishes five Boards to help implement the Prizes. These Boards are responsible for selecting topics; issuing problem statements, consulting with Federal stakeholders, and advising prize winners regarding opportunities to pilot and implement winning technologies. Each Board must be made up of no fewer than nine members, appointed by the Secretary, including at least one member who is expert in the area of concern for that Board and other members expert in wildlife conservation and management, biology, technology development, engineering, economics, and business development and management.

The five Boards are established to focus on technology innovation related to (1) the prevention of poaching and wildlife trafficking, (2) the promotion of wildlife conservation, (3) the management of invasive species, (4) the protection of endangered species, and (5) the nonlethal management of human-wildlife conflicts.

Additionally, under the Act, the Boards have an advisory duty: To develop recommendations for the Secretary regarding opportunities for technological innovation to assist in addressing the statute's five areas of concern. Establishment of the Council facilitates FACA compliance for the performance of the Boards' role advising the Secretary.

The Secretary will appoint Council members to serve until the Council is terminated on December 31, 2023, as is required by the Act. The Council will have at least 12 members, and each Board will have at least 9 members who may be members of the Council or experts from outside the Council. The Council and Boards will meet approximately two times per year and will minimize the administrative costs by encouraging remote participation.

Membership Expertise

We are seeking nominations for membership of individuals with the following types of expertise:

• Wildlife trafficking and trade,

• Wildlife conservation and management,

• Invasive species,

• Endangered species,

• Nonlethal wildlife management,

• Social aspects of human-wildlife conflict management,

• Biology,

• Technology development,

• Engineering,

• Economics,

• Business development and management, and

• Any other discipline that the Secretary determines to be necessary to achieve the purposes of the Act.

Individuals who are federally registered lobbyist are ineligible to serve on all FACA and non-FACA boards, committees, or councils in an individual capacity. The term “individual capacity” refers to individuals who are appointed to exercise their own individual best judgment on behalf of the Government, such as when they are designated as Special Government Employees (SGE), rather than being appointed to represent a particular interest.

Members of the Council and Boards appointed as SGEs are subject to applicable Federal ethics statutes and regulations, to include applicable exceptions and exemptions. The Department will provide materials to those members serving as SGEs, explaining their ethical obligations.

Submitting Nominations

Individuals may nominate themselves or be nominated by others. Nominations should include the following:

• The area(s) of expertise of the nominee(s), as required under Membership Expertise, above; and

• A resume providing an adequate description of the nominee's qualifications, including information that would enable the Service to make an informed decision regarding the nominee's potential to meet the membership requirements of the Council and Boards, and contact information for the potential member.

(Authority: 5 U.S.C. Appendix 2)

Aurelia Skipwith,
Director—U.S. Fish and Wildlife Service.

[FR Doc. 2020-10008 Filed 5-8-20; 8:45 am]

BILLING CODE 4333-15-P